DEPARTMENT OF THE INTERIOR

Bureau of Land Management

[CO150-1210-PC-241A]

Notice of Public Meeting, Southwest Resource Advisory Council Meeting

AGENCY: Bureau of Land Management, Department of the Interior.

ACTION: Notice of public meeting.

SUMMARY: In accordance with the Federal Land Policy and Management Act (FLPMA) and the Federal Advisory Committee Act of 1972 (FACA), the U.S. Department of the Interior (DOI), Bureau of Land Management (BLM) Southwest Colorado Resource Advisory Council (RAC) will meet as indicated below.

DATES: The Southwest Colorado RAC meeting will begin at 9 a.m. and adjourn at 4 p.m. on July 23, 2004.

ADDRESSES: The Southwest Colorado RAC meeting will be held at the Hinsdale County Administration Building, Coursey Annex Meeting Room, 311 North Henson, Lake City, Colorado.

FOR FURTHER INFORMATION CONTACT: Dave Kauffman, Associate Field Manager, BLM, Uncompahgre Field Office, 2505 South Townsend Ave., Montrose, CO; Telephone (970) 240-5340.

SUPPLEMENTARY INFORMATION: The 15-member Council advises the Secretary of the Interior, through the BLM, on a variety of planning and management issues associated with public lands managed by the BLM in southwestern Colorado. All meetings are open to the public.

The purpose of the meeting is to:

Discuss wilderness and wilderness study area management;

Receive program and project updates from BLM, including updates from BLM Field Managers;

Hear a briefing on the Hartman Rocks area near Gunnison, Colorado;

Discuss old RAC business.

There will be an opportunity for the public to address the RAC at approximately 1:30 p.m. for 1 hour. Written comments may be submitted for the RAC's consideration. Individuals who plan to attend and need special assistance, such as sign language interpretation or other reasonable accommodations, should contact the BLM as provided above.

Dated: June 25, 2004.
Barbara Sharrow,
Uncompahgre Field Manager.

[FR Doc. 04-14943 Filed 6-30-04; 8:45 am]

BILLING CODE 4310-AG-P